DEPARTMENT OF ENERGY

Federal Energy Regulatory Commission

[Docket No. EL07-66-000]

Invenergy Thermal LLC, Complainant, v. ISO New England, Inc., Respondent.; Notice of Complaint and Request for Fast Track

June 1, 2007.

Take notice that on May 31, 2007, Invenergy Thermal LLC (Invenergy) filed a formal complaint against ISO New England, Inc. (ISO-NE) pursuant to section 206 of the Federal Power Act, alleging that it was improper for ISO-NE to disqualify Invenergy's Sutton Energy Project from being further considered as a potential capacity supplier in ISO-NE's 2008 Forward Capacity Market auction on the grounds that Invenergy failed to post a Qualification Deposit by February 20, 2007. Invenergy requests that the Commission grant Invenergy a waiver of the February 20, 2007 deadline. Invenergy seeks fast track processing for this complaint.

Invenergy certified that it served a copy of the complaint on the contacts for the ISO-NE as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 8, 2007.

Kimberly D. Bose,
Secretary.

[FR Doc. E7-10998 Filed 6-6-07; 8:45 am]

BILLING CODE 6717-01-P